DEPARTMENT OF DEFENSE

Department of the Navy

Privacy Act of 1974; System of Records

AGENCY: Department of the Navy, DOD.

ACTION: Notice to add two systems of records.

SUMMARY: The Department of the Navy proposes to add two systems of records notices to its inventory of record systems subject to the Privacy Act of 1974 (5 U.S.C. 552a), as amended.

DATES: This action will be effective on October 8, 2003, unless comments are received that would result in a contrary determination.

ADDRESSES: Send comments to the Department of the Navy, PA/FOIA Policy Branch, Chief of Naval Operations (N09B10), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system reports, as required by 5 U.S.C. 552a(r) of the Privacy Act, were submitted on August 27, 2003, to the House Committee on Government Reform, the Senate Committee on Governmental Affairs, and the Office of Management and Budget (OMB) pursuant to paragraph 4c of Appendix I to OMB Circular No. A-130, “Federal Agency Responsibilities for Maintaining Records About Individuals,” dated February 8, 1996, (61 FR 6427, February 20, 1996).

Dated: August 29, 2003.
Patricia L. Toppings,
Alternate OSD Federal Register Liaison Officer, Department of Defense.

N06110-1

System name:

Physical Readiness Information Management System (PRIMS).

System location:

Records are located at the Navy Personnel Command (Pers-6), 5720 Integrity Drive, Millington, TN 38055-6000. Local command fitness leaders and assistant command fitness leaders at Navy installations/bases have access to the information about command personnel assigned to their Unit Identification Code (UIC).

Categories of individuals covered by the system:

Navy active duty and reserve personnel.

Categories of records in the system:

Physical Readiness Information Management System (PRIMS) consists of command information, authorization information, member personnel data (such as name, Social Security Number, Unit Identification Code, Department, Division, gender, service, rank, date of birth, Navy Enlisted Code/Designator, physical date, date reported to command, medical waivers, body composition assessment (such as weight, height, neck, abdomen, waist, hips, body fat)) and Physical Readiness Test data, Fitness Enhancement Program data, and Ship Shape data.

Authority for maintenance of the system:

10 U.S.C. 5013, Secretary of the Navy; OPNAVINST 6110.1G, Physical Readiness Program; and E.O. 9397 (SSN).

Purpose(s):

To provide a standardized Navy database to monitor and track the progress of members' Physical Fitness Assessment (PFA) data and to identify, screen, train, educate, counsel, monitor and rehabilitate members who do not meet the Physical Fitness Assessment standards.

Routine uses of records maintained in the system including categories of users and the purpose of such users:

In addition to those disclosures generally permitted under 5 U.S.C. 552a(b) of the Privacy Act, these records or information contained therein may specifically be disclosed outside the DoD as a routine use pursuant to 5 U.S.C. 552a(b)(3) as follows:

To qualified personnel for the purpose of conducting scientific research, management audits or program evaluation, but such personnel may not identify, directly or indirectly, any individual patient in any report of such research, audit or evaluation or otherwise disclose member identities in any manner.

The DoD ‘Blanket Routine Uses’ that appear at the beginning of the Navy's compilation of systems notices apply to this system.

Policies and practices for storing, retrieving, accessing, retaining, and disposing of records in the system:

Storage:

Records are maintained on electronic storage media. Paper records may be printed from the database.

Retrievability:

Name of member and Social Security Number.

Safeguards:

Computer facilities are located in restricted areas accessible only to authorized persons who are properly screened, cleared and trained. Access to records is controlled by the use of need-to-know “roles” in the application. Paper records downloaded from the database are marked “For Official Use Only.”

Retention and disposal:

Records are maintained for a period of five years and then destroyed.

System manager(s) and address:

Commander, Navy Personnel Command (Pers-657), 5720 Integrity Drive, Millington, TN 38055-6000 and/or the local command fitness leader/assistant command fitness leader.

Notification procedure:

All active duty and active Reserve Navy members with internet capabilities who are seeking to determine whether this system of records contains information about themselves can access this record system online at https://prims.bol.navy.mil by using their Social Security Number and the BUPERS ONLINE (BOL) password.

Former service members who are seeking to determine whether this system of records contains information about themselves should address written inquiries to the Commander, Navy Personnel Command (Pers-657), 5720 Integrity Drive, Millington, TN 38055-6000 or to the command where they were last assigned.

Requests must be signed and individuals should include their full name, Social Security Number, name or unit identification code of last command assigned, and dates of last assignment.

Record access procedures:

All active duty and active Reserve Navy members with Internet capabilities seeking access to records about themselves in this system of records may do so at https://prims.bol.navy.mil by using their Social Security Number and the BUPERS ONLINE (BOL) password.

Former service members seeking access to records about themselves in this system of records may receive a copy of the records by making written inquiries to the Commander, Navy Personnel Command (Pers-657), 5720 Integrity Drive, Millington, TN 38055-6000 or to the command where they were last assigned.

Requests must be signed and individuals should include their full name, Social Security Number, name or unit identification code of last command assigned and dates of last assignment.

Contesting record procedures:

The Navy's rules for accessing records and for contesting contents and appealing initial agency determinations are published in the Secretary of the Navy Instruction 5211.5; 32 CFR part 701; or may be obtained from the system manager.

Record source categories:

Individual, command personnel, and/or medical personnel.

Exemptions claimed for the system:

None.

N07200-1

System name:

Navy Morale, Welfare, and Recreation Debtors List.

Categories of individuals covered by the system:

Individuals who owe money to Navy Morale, Welfare and Recreation (MWR) facilities.

Categories of records in the system:

Copy of application, dunning notices, DD Form 139s, correspondence from responsible MWR Business Office, Bad Check System (including: Returned Check Ledger; Returned Check Report; copies of returned checks; bank advice relative to the returned check(s); correspondence relative to attempt by Navy MWR to locate the patron and/or obtain payment; a printed report of names of those persons who have not made full restitution promptly, or who have had one or more checks returned through their own fault or negligence); Accounts Receivable Ledger, detailed by patron; and Treasury Offset Program (TOP) accounts.

Authority for maintenance of the system:

10 U.S.C. 5013, Secretary of the Navy; 31 FR 285.11, Administrative Wage Garnishment; Federal Claims Collection Act of 1966 (Pub. L. 89-508) and Debt Collection Act of 1982 (Pub. L. 97-365); and E.O. 9397 (SSN).

Purpose(s):

To maintain an automated tracking and accounting system for individuals indebted to the Department of the Navy's Morale, Welfare and Recreation (MWR) facilities for the purpose of collecting debts.

Records in this system are subject to use in approved computer matching programs authorized under the Privacy Act of 1974, as amended, for debt collection purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To a commercial credit reporting agency for the purpose of either adding to a credit history file or obtaining a credit history file for use in the administration of debt collection.

To a debt collection agency for the purpose of collection services to recover indebtedness owed to the Department of the Navy.

To the Internal Revenue Service (IRS) to obtain the mailing address of a taxpayer for the purpose of locating such taxpayer to collect or to compromise a Federal claim by Navy against the taxpayer pursuant to 26 U.S.C. 6103(m)(2) and in accordance with 31 U.S.C. 3711, 3217, and 3718.

To any State and local governmental agency that employs the services of others and that pays their wages or salaries, where the employee owes a delinquent non-tax debt to the United States for the purpose of garnishment.

To the Department of the Treasury, Financial Management Service, for the purpose of collecting delinquent debts owed to the U.S. Government via administrative offset.

Note: Redisclosure of a mailing address from the IRS may be made only for the purpose of debt collection, including to a debt collection agency in order to facilitate the collection or compromise of a Federal claim under the Debt Collection Act of 1982, except that a mailing address to a consumer reporting agency is for the limited purpose of obtaining a commercial credit report on the particular taxpayer. Any such address information obtained from the IRS will not be used or shared for any other Navy purpose or disclosed to another Federal, State or local agency which seeks to locate the same individual for its own debt collection purpose.

The DoD “Blanket Routine Uses” that appear at the beginning of the Navy's compilation of systems notices also apply to this system.

Disclosure to consumer reporting agencies:

Disclosures pursuant to 5 U.S.C. 552a(b)(12) may be made from this system to “consumer reporting agencies” as defined in the Fair Credit Reporting Act, 15 U.S.C. 1681a(f) or the Federal Claims Collection Act of 1966, 31 U.S.C. 3701(a)(3). The purpose of the disclosure is to aid in the collection of outstanding debts owed to the Federal Government; typically, to provide an incentive for debtors to repay delinquent Federal Government debts by making these debts part of their credit records.

The disclosure is limited to information necessary to establish the identity of the individual, including name, address, and taxpayer identification number (Social Security Number); the amount, status, and history of the claim; and the agency or program under which the claim arose.

Policies and practices for storing, retrieving, accessing, retaining, and disposing of records in the system:

Storage:

Mainframe magnetic tapes, disk drives, printed reports, file folders, and PC hard and floppy disks.

Retrievability:

Name and Social Security Number.

Safeguards:

Information is stored in locked file cabinets, supervised office space, supervised computer tape library that is accessible only through the data center, entry to which is controlled by a “cardpad” security system, for which only authorized personnel are given the access code. PC entry into the system may only be made through individual passwords.

System manager(s) and address:

Policy official: Head, Financial Management Branch, Department of the Navy, Navy Personnel Command (Pers-652), 5720 Integrity Drive, Millington, TN 38055-6520.

Record holder: Local Morale, Welfare, and Recreation Offices/Visitors Quarters/Civilian Fund Business Offices that fall under the Commanding Officer of an installation. Addresses for Commanding Officers appear in the Directory of Department of the Navy Mailing Addresses.

Notification procedure:

Individuals seeking to determine whether this system of records contains information about themselves should address written inquiries to the local Morale, Welfare, and Recreation Office/Visitors Quarters/Civilian Fund Business Office at the installation where they obtained services or to the System Manager. Addresses for commanding officers appears in the Directory of Department of the Navy Mailing Addresses.

In the initial inquiry, the requester must provide full name, Social Security Number, date of transaction, and the activity where they had their dealings. A list of other offices the requester may visit will be provided after initial contact is made at the office listed above. At the time of a personal visit, requesters must provide proof of identity containing the requester's signature.

Record access procedures:

Individuals seeking access to records about themselves should address written inquiries to the local Morale, Welfare, and Recreation Office/Visitors Quarters/Civilian Fund Business Office at the installation where they obtained services or to the System Manager. Addresses for commanding officers appears in the Directory of Department of the Navy Mailing Addresses.

In the initial inquiry, the requester must provide full name, Social Security Number, date of transaction, and the activity where they had their dealings. A list of other offices the requester may visit will be provided after initial contact is made at the office listed above. At the time of a personal visit, requesters must provide proof of identity containing the requester's signature.

Contesting record procedures:

The Navy's rules for accessing records, and for contesting contents and appealing initial agency determinations are published in Secretary of the Navy Instruction 5211.5; 32 CFR part 701; or may be obtained from the system manager.

Record source categories:

The individual; the bank involved; activity records; Internal Revenue Service; credit bureaus; the Defense Manpower Data Center; and the Department of the Treasury.

Exemptions claimed for the system:

None.

[FR Doc. 03-22688 Filed 9-5-03; 8:45 am]

BILLING CODE 5001-08-P